DEPARTMENT OF COMMERCE

National Oceanic and Atmospheric Administration

50 CFR Part 635

[Docket No. 120328229-3656-01]

RIN 0648-BC09

Atlantic Highly Migratory Species; 2006 Consolidated Highly Migratory Species Fishery Management Plan; Amendment 7; Extension of Comment Period

AGENCY: National Marine Fisheries Service (NMFS), National Oceanic and Atmospheric Administration (NOAA), Commerce.

ACTION: Proposed rule; extension of comment period.

SUMMARY: The National Marine Fisheries Service (NMFS) is amending the 2006 Consolidated HMS FMP to address bluefin tuna management due to recent trends and characteristics of the bluefin fishery. This action is necessary to meet domestic management objectives of the Magnuson-Stevens Fishery Conservation and Management Act including preventing overfishing, achieving optimal yield, and minimizing bycatch to the extent practicable, as well as the objectives of the Atlantic Tunas Convention Act (ATCA) and obligations pursuant to binding recommendations of the International Commission for the Conservation of Atlantic Tunas (ICCAT). NMFS takes these actions to reduce bluefin dead discards and account for dead discards in all categories; optimize fishing opportunities in all categories; enhance reporting and monitoring; and adjust other aspects of the 2006 Consolidated HMS FMP as necessary. The proposed measures include Allocation measures, Area-Based measures, Bluefin Quota Controls, Enhanced Reporting measures, and other measures with respect to how the various quota categories utilize quota. In the proposed rule that published on August 21, 2013, NMFS announced the end of the comment period as October 23, 2013, which allowed an approximately 60-day comment period. Given the length and complexity of the rule, and to provide additional time for constituents to consider the proposed rule in light of any new recommendations adopted by ICCAT at its November 2013 meeting, NMFS is extending the comment period for this action until December 10, 2013, to provide additional opportunities for public comment.

DATES: The public comment period for the proposed rule published at 78 FR 52032, August 21, 2013, is extended from October 23, 2013, until December 10, 2013. Comments must be received no later than December 10, 2013.

ADDRESSES: You may submit comments on the proposed rule, as published on August 21, 2013 (78 FR 52032), identified by “NOAA-NMFS-2013-0101,” by any of the following methods:

• Electronic Submissions: Submit all electronic public comments via the Federal eRulemaking Portal. Go to www.regulations.gov/#!docketDetail;D=NOAA-NMFS-2013-0101, click the “Comment Now!” icon, complete the required fields, and enter or attach your comments. Do not submit electronic comments to individual NMFS staff.

• Mail: Submit written comments to: Thomas Warren, Highly Migratory Species Management Division, NMFS, 55 Great Republic Drive, Gloucester, MA 01930. Please mark the outside of the envelope “Comments on Amendment 7 to the HMS FMP.”

• Fax: 978-281-9347, Attn: Thomas Warren.

Instructions: Comments must be submitted by one of the above methods to ensure that the comments are received, documented, and considered by NMFS. Comments sent by any other method, to any other address or individual, or received after the end of the comment period, may not be considered. All comments received are part of the public record and generally will be posted for public viewing on www.regulations.gov without change. All Personal Identifying Information (for example, name, address, etc.), confidential business information, or otherwise sensitive information submitted voluntarily by the sender will be publicly accessible. Do not submit Confidential Business Information or otherwise sensitive or protected information. NMFS will accept anonymous comments (enter “N/A” in the required fields, if you wish to remain anonymous). You may submit attachments to electronic comments in Microsoft Word or Excel, WordPerfect, or Adobe PDF file formats only.

Supporting documents including the draft Environmental Impact Statement (EIS), Regulatory Impact Review (RIR), and Initial Regulatory Flexibility Analysis (IRFA) for this action are available from the Highly Migratory Species Management Division Web site at http://www.nmfs.noaa.gov/sfa/hms/FMP/AM7.htm or by sending your request to Thomas Warren at the mailing address or phone numbers specified above.

FOR FURTHER INFORMATION CONTACT: Thomas Warren or Brad McHale at 978-281-9260; Craig Cockrell or Jennifer Cudney at 301-427-8503.

SUPPLEMENTARY INFORMATION: The North Atlantic tuna fisheries are managed under the dual authority of the Magnuson-Stevens Fishery Conservation and Management Act (Magnuson-Stevens Act) and the Atlantic Tunas Convention Act (ATCA). Under the Magnuson-Stevens Act, NMFS must manage fisheries to maintain optimum yield on a continuing basis while preventing overfishing. ATCA authorizes the Secretary of Commerce (Secretary) to promulgate regulations, as may be necessary and appropriate to carry out recommendations of the International Commission for the Conservation of Atlantic Tunas (ICCAT). The authority to issue regulations under the Magnuson-Stevens Act and ATCA has been delegated from the Secretary to the Assistant Administrator for Fisheries, NMFS. Management of these species is described in the 2006 Consolidated HMS FMP, which is implemented by regulations at 50 CFR part 635. Copies of the 2006 Consolidated HMS FMP and previous amendments are available from the Highly Migratory Species Management Division Web page at http://www.nmfs.noaa.gov/sfa/hms/hmsdocument_files/FMPs.htm or from NMFS on request (see FOR FURTHER INFORMATION CONTACT).

NMFS is amending the 2006 Consolidated HMS FMP to address bluefin tuna management due to recent trends and characteristics of the bluefin fishery (78 FR 52032). This action is necessary to meet domestic management objectives of the Magnuson-Stevens Fishery Conservation and Management Act including preventing overfishing, achieving optimal yield, and minimizing bycatch to the extent practicable, as well as the objectives of the ATCA and obligations pursuant to binding recommendations of ICCAT. NMFS takes these actions to reduce bluefin dead discards and account for dead discards in all categories; optimize fishing opportunities in all categories; enhance reporting and monitoring; and adjust other aspects of the 2006 Consolidated HMS FMP as necessary. As described in the proposed rule, the proposed management measures include: (1) Allocation measures that would modify how the U.S. bluefin quota is allocated among the quota categories; (2) area-based measures that restrict the use of pelagic longline gear in various time and area combinations, modify gear restrictions, or provide conditional access to current pelagic longline closed areas; (3) bluefin quota controls that would strictly limit the total catch (landings and dead discards) of bluefin in the Longline category using different strategies; (4) enhanced reporting measures that would implement a variety of new bluefin reporting requirements; and (5) other measures that would modify to the rules that control how the various quota categories utilize quota, and codify a northern albacore tuna quota.

Public Comment Extension

In the proposed rule, NMFS announced the end of the comment period as October 23, 2013, which allowed an approximately 60-day comment period. Given the length and complexity of the rule, and to provide additional time for constituents to consider the proposed rule in light of any new recommendations by ICCAT at its November 2013 meeting, NMFS is extending the comment period for this action until December 10, 2013, to provide additional opportunities for public comment.

These comments will assist NMFS in determining final management measures to conserve and manage the BFT resource and fisheries, consistent with the Magnuson-Stevens Act, ATCA, and the 2006 Consolidated HMS FMP.

Authority: 16 U.S.C. 971 et seq.; 16 U.S.C. 1801 et seq.

Dated: September 12, 2013.
Alan D. Risenhoover,
Director, Office of Sustainable Fisheries, performing the functions and duties of the Deputy Assistant Administrator for Regulatory Programs, National Marine Fisheries Service.

[FR Doc. 2013-22736 Filed 9-17-13; 8:45 am]

BILLING CODE 3510-22-P